DEPARTMENT OF COMMERCE

National Oceanic and Atmospheric Administration

[I.D. 042400G]

American Fisheries Act: Vessel and Processor Permit Applications: Proposed Information Collection; Request for Comments

AGENCY: National Oceanic and Atmospheric Administration

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 26, 2000.

ADDRESSES: Direct all written comments to Linda Engelmeier, Departmental Forms Clearance Officer, Department of Commerce, Room 5027, 14th and Constitution Avenue NW, Washington DC 20230 (or via Internet at lengelme@doc.gov).

FOR FURTHER INFORMATION CONTACT: Requests for additional information or copies of the information collection instrument(s) and instructions should be directed to Patsy A. Bearden, F/AK01, NOAA/NMFS, P.O. Box 21668, Juneau, AK 99802-1668 (907-586-7228).

SUPPLEMENTARY INFORMATION:

I. Abstract

The American Fisheries Act (AFA), signed into law in October 1998, established a new allocation program for the pollock fishery of the Bering Sea and Aleutian Islands Management Area (BSAI). NOAA issued an emergency interim rule to give immediate effect to all AFA-mandated management measures. Under the AFA, only vessels and processors that meet specific qualifying criteria are eligible to fish for and process pollock in the BSAI. The BSAI pollock quota is suballocated to groups of vessel owners who form fishing vessel cooperatives under the AFA. NOAA administers new AFA fishing, processing, and cooperative permits for the BSAI pollock fishery through application form requirements that allow NOAA to identify and permit the vessels and processors that are eligible to participate in the BSAI pollock fishery. Owners of vessels and processors must submit evidence of their qualification to participate.

II. Method of Collection

Applications are submitted on paper forms.

III. Data

OMB Number: 0648-0393.

Form Number: None.

Type of Review: Regular submission.

Affected public: Business or other for-profit institutions, individuals or households.

Estimated Number of Respondents: 141.

Estimated Time Per Respondents: 30 minutes for AFA replacement vessel applications, 2 hours for other applications.

Estimated Total Annual Burden Hours: 280.

Estimated Total Annual Cost to Public: $783.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 20, 2000.
Linda Engelmeier,
Departmental Forms Clearance Officer, Office of the Chief Information Officer.

[FR Doc. 00-10511 Filed 4-26-00; 8:45 am]

BILLING CODE 3510-22-F